SECURITIES AND EXCHANGE COMMISSION

[(Release No. 35-27859)]

Filings Under the Public Utility Holding Company Act of 1935, as Amended (“Act”)

DATES: June 18, 2004.

Notice is hereby given that the following filing(s) has/haven been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by July 13, 2004, to the Secretary, Securities and Exchange Commission, Washington, DC 20549-0609, and serve a copy on the relevant application(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After July 13, 2004, the application(s) and/or declaration(s), as filed or as amended, may be granted and/or permitted to become effective.

Cinergy Services, Inc. (70-10228)

Cinergy Service, Inc., a Delaware corporation (“Cinergy Services” or “Applicant”), 139 East Fourth Street, Cincinnati, Ohio 45202, a service company subsidiary of Cinergy Corporation (“Cinergy”), a registered holding company, has filed an application (“Application”) with the Commission under section 13(b) of the Act and rules 54, 90, 91, and 93(d) under the Act.

Cinergy Services requests a waiver from the requirement under the rule 93 of the Act that service companies maintain their books and records as prescribed by 17 CFR part 257 in accordance with the accounts established in the Commission's Uniform System of Accounts for Mutual Service Companies and Subsidiary Service Companies(“System of Accounts”).¹ Specifically, Cinergy Services requests a waiver under rule 93(d) to use the chart of accounts in the Federal Energy Regulatory Commission's (“FERC”) Uniform System of Accounts Prescribed for Public Utilities and Licensees Subject to Provisions of the Federal Power Act(“FERC Chart of Accounts”),² Instead of the System of Accounts, for all purposes for which Cinergy Services would otherwise use the System of Accounts. Cinergy Services states that the proposed adoption of the FERC Chart of Accounts, which contains additional accounts relevant to Cinergy Services functions not included in the System of Accounts, will permit the Cinergy system to realize process improvements and other efficiencies in its accounting system.³ Cinergy Services also requests authority to amend its existing service agreements to make conforming textual revisions reflecting the proposed use of the FERC Chart of Accounts. In all other respects, Cinergy Services states that it will continue to comply fully with rule 93 and the System of Accounts.⁴

¹ See 17 CFR 256.00-1, et seq.

² See 18 CFR 101.

³ See Energy East Corp., HCAR No. 27729; Sept. 30, 2003 (allowing a comparable use of the FERC Chart of Accounts).

⁴ By implementing this change, the Cinergy system;s FERC reporting will not change; rather, Cinergy Services' reporting will be modified to include FERC functionalized accounts.

Cinergy Services was organized to act as a service company subsidiary for Cinergy in connection with the merger that created the Cinergy holding company system.⁵ Cinergy Services renders its services under separate Commission-approved service agreements with Cinergy's utility and nonutility subsidiaries.⁶

⁵ See Cinergy Corp., HCAR No. 26146; Oct. 21, 1994 (“Merger Order”). Cinergy directly or indirectly owns all the outstanding common stock of five public utility companies, the most significant of which are PSI Energy, Inc. (“PSI”), an Indiana electric utility, and The Cincinnati Gas & Electric Company (“CG&E”) a combination Ohio electric and gas utility and holding company. PSI and CG&E (including the utility subsidiaries of CG&E, the most significant of which is The Union Light, Heat and Power Company, a Kentucky combination electric and gas utility) collectively provide electric and gas service to approximately 1.6 million retail and wholesale customers in parts of Indiana, Ohio and Kentucky. The Cinergy system also includes numerous nonutility subsidiaries engaged in energy-related business and other nonutility businesses authorized under the Act, by Commission order or otherwise.

⁶ The Commission approved the Service Agreements in the Merger Order. In 1997, the Commission authorized an amendment to the Nonutility Services Agreements under which Cinergy Services was authorized to provide an expanded roster of services to associated nonutility companies (HCAR No. 2662; Feb. 7, 1997).

Applicant states that the Cinergy system intends to implement a new accounting and reporting system in early 2005. Currently, the system maintains multiple charts of account, including the System of Accounts for Cinergy Services and the FERC Chart of Accounts for the FERC-jurisdictional companies. Under the proposed accounting system, the multiple charts of accounts now used throughout the system will consolidated into a single chart of accounts. Applicant states that the decision to consolidate the various charts of account into a single chart of accounts reflects Cinergy's view of industry “best practices”, including avoidance of account rollup structures,⁷ and is expected to yield a number of other system benefits, including: (1) Improving internal processes; (2) standardizing and streamlining processes; and (3) enhancing reporting system performance. Cinergy Services states that the proposed transactions only affect account-record keeping and reporting presentations and will provide greater transparency regarding its various reporting requirements.

⁷ For example, because the System of Accounts requires Cinergy Services to record operating and maintenance expenses in the administrative and general expense accounts, while under the broader FERC System of Accounts the same type of expenses incurred by FERC-jurisdictional companies are recorded in more specialized functional accounts, Cinergy Services currently maintains a duplicate set of account rollup structures in order to facilitate proper reporting for both Commission and FERC purposes.

For the Commission, by the Division of Investment Management, pursuant to delegated authority.
Margaret H. McFarland,
Deputy Secretary.

[FR Doc. 04-14449 Filed 6-24-04; 8:45 am]

BILLING CODE 8010-01-M